DEPARTMENT OF ENERGY

Federal Energy Regulatory Commission

[Project Nos. 2574-000, 2574-090, 2574-091; Project Nos. 2611-088, 2611-090; Project Nos. 2322-068, 2322-069, 2322-070, 2325-000, 2325-096, 2325-097]

Merimil Limited Partnership; Hydro-Kennebec, LLC; Brookfield White Pine Hydro, LLC; Notice of Teleconference

a. Project Names and Numbers: Lockwood Hydroelectric Project No. 2574; Hydro-Kennebec Hydroelectric Project No. 2611; Shawmut Hydroelectric Project No. 2322; and Weston Hydroelectric Project No. 2325.

b. Project licensees: Merimil Limited Partnership; Hydro-Kennebec, LLC; Brookfield White Pine Hydro, LLC.

c. Date and Time of Teleconference: Thursday, April 8, 2021 from 11:00 a.m. to 1:00 p.m. Eastern Standard Time.

d. FERC Contact: Marybeth Gay, (202) 502-6125 or Marybeth.Gay@ferc.gov.

e. Purpose of Meeting: Commission staff will hold a teleconference with the National Marine Fisheries Service (NMFS) and Brookfield Renewable Partners (Brookfield) to discuss issues related to options for moving forward with Endangered Species Act consultation raised by NMFS in recent filings made with the Commission regarding the Lockwood, Hydro-Kennebec, Shawmut, and Weston Projects.

f. Members of the public and intervenors in the referenced proceedings may attend the teleconference; however, participation will be limited to representatives of the NMFS and Brookfield, and the Commission's representatives.

g. Please call or email Marybeth Gay at (202) 502-6125 or Marybeth.Gay@ferc.gov by Wednesday, April 7, 2021, to RSVP and to receive the teleconference call-in information.

Dated: March 25, 2021.
Nathaniel J. Davis, Sr.,
Deputy Secretary.

[FR Doc. 2021-06623 Filed 3-30-21; 8:45 am]

BILLING CODE 6717-01-P